DEPARTMENT OF THE INTERIOR

National Park Service

Mojave National Preserve, Advisory Commission; Notice of Meeting

Notice is hereby given in accordance with the Federal Advisory Committee Act that a meeting of the Mojave National Preserve Advisory Commission will be held on October 17, 2000. The meeting will begin at 9 a.m. at the Primm Valley Resort in Primm, Nevada.

The agenda will include updates on park activities, Kelso Depot design status, Hole-in-the-Wall Interagency Fire Center design status, Comprehensive Interpretive Planning overview, and the status of the revised draft General Management Plan.

The Advisory Commission was established by Public Law 103-433 to provide advice on the development and implementation of the general management plan for the Preserve.

Current members of the Commission are: Irene Ausmus, Rob Blair, Peter Burk, Donna Davis, Kathy Davis, Gerald Freeman, Willis Herron, Eldon Hughes, Claudia Luke, Clay Overson, Norbert Riedy, Mal Wessel.

This meeting is open to the public.

Dennis Schramm,
Acting Superintendent, Mojave National Preserve.

[FR Doc. 00-25565 Filed 10-4-00; 8:45 am]

BILLING CODE 4310-70-P